DEPARTMENT OF TRANSPORTATION

Federal Aviation Administration

14 CFR Part 95

[Docket No. 30626; Amdt. No. 476]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, September 25, 2008.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on August 27, 2008.
James J. Ballough,
Director, Flight Standards Service.

Adoption of the Amendment

Accordingly, pursuant to the authority delegated to me by the Administrator, part 95 of the Federal Aviation Regulations (14 CFR part 95) is amended as follows effective at 0901 UTC, September 25, 2008.

1. The authority citation for part 95 continues to read as follows:

Authority: 49 U.S.C. 106(g), 40103, 40106, 40113, 40114, 40120, 44502, 44514, 44719, 44721.

2. Part 95 is amended to read as follows:

Revisions to IFR Altitudes & Changeover Points—Amendment 476
[Effective date September 25, 2008]
From | To | MEA
§ 95.1001 DIRECT ROUTES—U.S. COLOR ROUTES
§ 95.10 AMBER FEDERAL AIRWAY A6
IS ADDED TO READ:
ST MARYS, AK NDB | NORTH RIVER, AK NDB | 5000

From | To | MEA | MAA
§ 95.4000 HIGH ALTITUDE RNAV ROUTES
§ 95.4110 RNAV ROUTE Q110
IS AMENDED BY ADDING:
THNDR, FL FIX | KPASA, FL FIX | #*18000 | 45000
*18000—GNSS MEA
#DME/DME/IRU RNAV MEA
§ 95.4257 RNAV ROUTE T257
IS ADDED TO READ:
BIG SUR, CA VORTAC | ISIFU, CA FIX | 7300 | 17500
ISIFU, CA FIX | SUTRO, CA FIX | 4900 | 17500
SUTRO, CA FIX | POINT REYES, CA VORTAC | 4000 | 17500
§ 95.4259 RNAV ROUTE T259
IS ADDED TO READ:
SAN JOSE, CA VOR/DME | CEDES, CA FIX | 6200 | 17500
CEDES, CA FIX | MOVDD, CA FIX | 5900 | 17500
MOVDD, CA FIX | SACRAMENTO, CA VORTAC | 3200 | 17500
§ 95.4261 RNAV ROUTE T261
IS ADDED TO READ:
WOODSIDE, CA VORTAC | ALTAM, CA FIX | 5000 | 17500
§ 95.4263 RNAV ROUTE T263
IS ADDED TO READ:
SUNOL, CA FIX | SCAGGS ISLAND, CA VORTAC | 4600 | 17500
§ 95.4274 RNAV ROUTE T274
IS ADDED TO READ:
NEWPORT, OR VORTAC | *CRAAF, OR FIX | 5500 | 17500
*5000—MCA CRAAF, OR FIX, SW BND

From | To | MEA
§ 95.6001 VICTOR ROUTES—U.S.
§ 95.6005 VOR FEDERAL AIRWAY V5
IS AMENDED TO READ IN PART:
#APPLETON, OH VORTAC | MANSFIELD, OH VORTAC | 3000
#R-006 UNUSABLE
§ 95.6006 VOR FEDERAL AIRWAY V6
IS AMENDED TO READ IN PART:
MUSTANG, NV VORTAC | WADDS, NV FIX | 10300
WADDS, NV FIX | *LOVELOCK, NV VORTAC | **10000
*8500—MCA LOVELOCK, NV VORTAC, NE BND
**9500—MOCA
§ 95.6013 VOR FEDERAL AIRWAY V13
IS AMENDED TO READ IN PART:
*CHESO, AR FIX | RAZORBACK, AR VORTAC | 3700
*5000—MRA
§ 95.6014 VOR FEDERAL AIRWAY V14
IS AMENDED TO READ IN PART:
BUFFALO, NY VOR/DME | GENESEO, NY VOR/DME | 4000
§ 95.6017 VOR FEDERAL AIRWAY V17
IS AMENDED TO READ IN PART:
GARDEN CITY, KS VORTAC | *COFFE, KS FIX | **5500
*9000—MRA
**4600—MOCA
§ 95.6023 VOR FEDERAL AIRWAY V23
IS AMENDED TO READ IN PART:
SACRAMENTO, CA VORTAC | GRIME, CA FIX | *2000
*1600—MOCA
GRIME, CA FIX | YUBBA, CA FIX | *4000
*2000—MOCA
YUBBA, CA FIX | *GRIDD, CA FIX | **4000
*4000—MRA
**3400—MOCA
GRIDD, CA FIX | RED BLUFF, CA VORTAC | *3000
*1700—MOCA
§ 95.6043 VOR FEDERAL AIRWAY V43
IS AMENDED TO READ IN PART:
#APPLETON, OH VORTAC | TIVERTON, OH VOR/DME | 3000
#R-055 UNUSABLE
§ 95.6051 VOR FEDERAL AIRWAY V51
IS AMENDED TO READ IN PART:
NABB, IN VORTAC | SHELBYVILLE, IN VORTAC | 3000
§ 95.6084 VOR FEDERAL AIRWAY V84
IS AMENDED TO READ IN PART:
BUFFALO, NY VOR/DME | GENESEO, NY VOR/DME | 4000
§ 95.6113 VOR FEDERAL AIRWAY V113
IS AMENDED TO READ IN PART:
MUSTANG, NV VORTAC | NICER, NV FIX | 10300
NICER, NV FIX | ROBUD, NV FIX | *12000
*10600—MOCA
ROBUD, NV FIX | SOD HOUSE, NV VORTAC | *10000
*9000—MOCA
§ 95.6171 VOR FEDERAL AIRWAY V171
IS AMENDED TO READ IN PART:
EMILS, MN FIX | FARMINGTON, MN VORTAC | *5500
*3000—GNSS MEA
FARMINGTON, MN VORTAC | JONNA, MN FIX | #*3500
*2500—MOCA
#*3000—GNSS MEA
JONNA, MN FIX | DARWIN, MN VORTAC | 2900
§ 95.6184 VOR FEDERAL AIRWAY V184
IS AMENDED TO READ IN PART:
PANZE, NJ FIX | FALON, NJ FIX | #*5000
*1500—MOCA
#*2000—GNSS MEA
FALON, NJ FIX | ZIGGI, NJ FIX | *2500
*1600—MOCA
§ 95.6195 VOR FEDERAL AIRWAY V195
IS AMENDED TO READ IN PART:
WILLIAMS, CA VORTAC | JINGO, CA FIX | *3000
*2000—MOCA
JINGO, CA FIX | RED BLUFF, CA VORTAC | *3000
*1700—MOCA
§ 95.6208 VOR FEDERAL AIRWAY V208
IS AMENDED TO READ IN PART:
PACIF, CA FIX | OCEANSIDE, CA VORTAC | 3000
§ 95.6221 VOR FEDERAL AIRWAY V221
IS AMENDED TO READ IN PART:
#HOOSIER, IN VORTAC | SHELBYVILLE, IN VORTAC | *6000
*3000—MOCA
#R-053 UNUSABLE
§ 95.6232 VOR FEDERAL AIRWAY V232
IS AMENDED TO READ IN PART:
CHARDON, OH VOR/DME | HAGAR, PA FIX | 3300
HAGAR, PA FIX | FRANKLIN, PA VOR | 3300
§ 95.6244 VOR FEDERAL AIRWAY V244
IS AMENDED TO READ IN PART:
*NIKOL, CA FIX | COALDALE, NV VORTAC | 12500
*13000—MCA NIKOL, CA FIX, W BND
LAMAR, CO VORTAC | *COFFE, KS FIX | **9000
*9000—MRA
**5400—MOCA
§ 95.6292 VOR FEDERAL AIRWAY V292
IS AMENDED TO READ IN PART:
SAGES, NY FIX | *WIGAN, NY FIX | #**10000
*4500—MRA
**6400—MOCA
#7000—GNSS MEA
WIGAN, NY FIX | BARNES, MA VORTAC | #**10000
**4900—MOCA
#5000—GNSS MEA
BARNES, MA VORTAC | GLYDE, MA FIX | #*7000
*2700—MOCA
#4000—GNSS MEA
§ 95.6365 VOR FEDERAL AIRWAY V365
IS AMENDED TO READ IN PART:
*BOZEMAN, MT VOR/DME | **MENAR, MT FIX | 8700
*9300—MCA BOZEMAN, MT VOR/DME, SE BND
**9200—MCA MENAR, MT FIX, NW BND
MENAR, MT FIX | SWEDD, MT FIX | *10000
*9400—MOCA
§ 95.6434 VOR FEDERAL AIRWAY V434
IS AMENDED TO READ IN PART:
PEORIA, IL VORTAC | CHAMPLAIN, IL VORTAC | 2800
§ 95.6458 VOR FEDERAL AIRWAY V458
IS AMENDED TO READ IN PART:
PACIF, CA FIX | OCEANSIDE, CA VORTAC | 3000
§ 95.6523 VOR FEDERAL AIRWAY V523
IS AMENDED TO READ IN PART:
#APPLETON, OH VORTAC | TIVERTON, OH VOR/DME | 3000
#R-055 UNUSABLE
§ 95.6525 VOR FEDERAL AIRWAY V525
IS AMENDED TO READ IN PART:
#APPLETON, OH VORTAC | TIVERTON, OH VOR/DME | 3000
#R-055 UNUSABLE
§ 95.6536 VOR FEDERAL AIRWAY V536
IS AMENDED TO READ IN PART:
SWEDD, MT FIX | *MENAR, MT FIX | **10000
*9200—MCA MENAR, MT FIX, NW BND
**9400—MOCA
MENAR, MT FIX | *BOZEMAN, MT VOR/DME | 8700
*9300—MCA BOZEMAN, MT VOR/DME, SE BND
§ 95.6563 VOR FEDERAL AIRWAY V563
IS AMENDED TO READ IN PART:
LUBBOCK, TX VORTAC | BIG SPRING, TX VORTAC | 5200
§ 95.6351 ALASKA VOR FEDERAL AIRWAY V351
IS ADDED TO READ:
DILLINGHAM, AK VOR/DME | PORT HEIDEN, AK NDB/DME | 3000
§ 95.641 ALASKA VOR FEDERAL AIRWAY V414
IS ADDED TO READ:
GAMBELL, AK NDB | KUKULIAK, AK VOR | 3000
§ 95.6477 ALASKA VOR FEDERAL AIRWAY V477
IS AMENDED TO READ IN PART:
HUSLIA, AK VOR/DME | ATAGO, AK FIX E BND W BND | *3500 *4000
*2500—MOCA
ATAGO, AK FIX | DESOY, AK FIX | 4000
DESOY, AK FIX | SELAWIK, AK VOR/DME W BND E BND | 2500 4000
§ 95.6619 ALASKA VOR FEDERAL AIRWAY V619
IS ADDED TO READ:
PORT HEIDEN, AK NDB/DME | SALDO, AK NDB | 4000
SALDO, AK NDB | DILLINGHAM, AK VOR/DME | 3000

From | To | MEA | MAA
§ 95.7001 JET ROUTES
§ 95.7211 JET ROUTE J211
IS AMENDED TO READ IN PART:
#YOUNGSTOWN, OH VORTAC | JOHNSTOWN, PA VORTAC | 18000 | 45000
#R-130 UNUSABLE ABOVE 24000

From | To | Distance | From
§ 95.8003 VOR FEDERAL AIRWAY CHANGEOVER POINTS V221
IS AMENDED TO DELETE:
HOOSIER, IN, VORTAC | SHELBYVILLE, IN, VORTAC | 15 | HOOSIER

[FR Doc. E8-20443 Filed 9-3-08; 8:45 am]

BILLING CODE 4910-13-P